NUCLEAR REGULATORY COMMISSION

[NRC-2013-0152]

[EA-13-033; Project No. 0782]

In the Matter of Korea Hydro and Nuclear Power, Co., Ltd. and All Other Persons Who Seek or Obtain Access to Safeguards Information Described Herein; Order Imposing Protection Requirements for Access to Safeguards Information (Effective Immediately)

I

Korea Hydro and Nuclear Power, Co., Ltd. (KHNP) submitted a letter of intent to the U.S. Nuclear Regulatory Commission (NRC) for a design certification (DC) application in 2013.

In June 2009, the Commission published a rulemaking in the Federal Register (FR) (74 FR 28112) requiring applicants for a variety of licensing activities, including nuclear power plant designers, to perform a design-specific assessment of the effects of the impact of a large, commercial aircraft and to incorporate design features and functional capabilities into the nuclear power plant design to provide additional inherent protection with reduced use of operator actions. A discussion of the specific requirements for applicants for new nuclear power reactors can be found in Section V of the Federal Register notice. To assist designers in completing this assessment, the Commission has decided to provide the detailed aircraft impact characteristics that should be used as reasonable inputs for reactor vendors and architect and engineers who have the need to know and who meet the NRC's requirements for the disclosure of such information to use in the required aircraft impact assessments.

The NRC derived the characteristics from agency analyses performed on operating reactors to support, in part, the development of a broadly effective set of mitigation strategies to combat fires and explosions from a spectrum of hypothetical aircraft impacts. Although the detailed characteristics were not selected as a basis for designing new reactors, the staff is suggesting them as a starting point for aircraft impact assessments. On August 5, 2011, the NRC issued Regulatory Guide (RG) 1.217, “Guidance for the Assessment of Beyond-Design-Basis Aircraft Impacts,” (NRC's Agencywide Documents Access and Management System (ADAMS) Accession No. ML092900004), which endorses the methodologies described in the industry guidance document, Nuclear Energy Institute (NEI) 07-13, “Methodology for Performing Aircraft Impact Assessments for New Plant Designs,” Revision 8, dated April 2011 (ADAMS Accession No. ML111440006). NEI 07-13 includes the aircraft impact characteristics in two appendices. In addition, the staff recognizes that no national or international consensus has been reached on the selection of appropriate characteristics for such analyses. Therefore, the information should be considered preliminary and subject to authorized stakeholder comment. The detailed aircraft characteristics that are the subject of this Order are hereby designated as Safeguards Information (SGI) ¹ in accordance with Section 147 of the Atomic Energy Act of 1954, as amended (AEA).

¹ SGI is a form of sensitive, unclassified, security-related information that the Commission has the authority to designate and protect under Section 147 of the AEA.

On October 24, 2008, the NRC revised Title 10 of the Code of Federal Regulations (10 CFR) 73.21, “Protection of Safeguards Information: Performance Requirements,” to include applicants in the list of entities required to protect SGI (73 FR 63546). The NRC is issuing this order to KHNP to impose requirements for the protection of SGI in addition to the requirements set forth in 10 CFR 73.21, which include nomination of a reviewing official, restrictions on storage of SGI, and access to SGI by certain individuals.

To implement this Order, KHNP must nominate an individual who will review the results of the Federal Bureau of Investigation (FBI) criminal history records check to make SGI access determinations. This individual, called the reviewing official, must be someone who seeks access to SGI. Based on the results of the FBI criminal history records check, the NRC staff will determine if this individual may have access to SGI. If the NRC determines that the individual may not be granted access to SGI, the enclosed order prohibits that individual from obtaining access to any SGI. Once the NRC approves a reviewing official, this reviewing official—and only this reviewing official—can make SGI access determinations for other individuals who KHNP identifies as having a need for SGI, who have been fingerprinted, and who have had a criminal history records and background check in accordance with this Order. The reviewing official can only make SGI access determinations for other individuals but cannot approve other individuals to act as reviewing officials. Only the NRC can approve a reviewing official. Therefore, if KHNP wishes to have a new or additional reviewing official, the NRC must approve this individual before he or she can act in that capacity.

II

The Commission has broad statutory authority to protect and prohibit the unauthorized disclosure of SGI. Section 147 of the AEA grants the Commission explicit authority to issue such orders, as necessary, to prohibit the unauthorized disclosure of SGI. To provide assurance that KHNP continues to implement appropriate measures to ensure a consistent level of protection to prohibit unauthorized disclosure of SGI, as well as to comply with the fingerprinting, criminal history records check, and background check requirements for access to SGI, KHNP shall implement the requirements for the protection of SGI as set forth in 10 CFR 73.21, 10 CFR 73.22, “Protection of Safeguards Information: Specific Requirements,” and this Order.

By rule, certain categories of individuals are exempted from the fingerprinting requirements under 10 CFR 73.59, “Relief from Fingerprinting, Identification and Criminal History Records Checks and Other Elements of Background Checks for Designated Categories of Individuals.” Those individuals include Federal, State, and local law enforcement personnel in the United States (U.S.); Agreement State inspectors who conduct security inspections on behalf of the NRC; members of the U.S. Congress; certain employees of members of Congress or congressional committees who have undergone fingerprinting for a previous U.S. Government criminal history check; and representatives of the International Atomic Energy Agency or certain foreign government organizations. In addition, individuals who have had a favorably decided U.S. Government criminal history check within the last 5 years, or individuals who have active U.S. Federal security clearances (provided in either case that they provide the appropriate documentation), have already been subjected to fingerprinting and criminal history checks and, thus, have satisfied the fingerprinting requirement.

In addition, under 10 CFR 2.202, “Orders,” the NRC finds that, in light of the matters identified above, which warrant the issuance of this Order, the public health, safety, and interest require that this Order be effective immediately.

III

Accordingly, under Sections 147, 149, 161b, 161i, 161o, 182, and 186 of the AEA, and the Commission's regulations in 10 CFR 2.202 and10 CFR part 73, “Physical Protection of Plants and Materials,” it is hereby ordered, effective immediately, that KHNP and all other persons who seek or obtain access to safeguards information as described herein shall comply with the requirements set forth in 10 CFR 73.21, 10 CFR 73.22, and this order.

A

(1) No person shall have access to any SGI if the NRC, when making an SGI access determination for a nominated reviewing official, has determined, based on fingerprinting and an FBI identification and criminal history records check, that the person nominated may not have access to SGI.

(2) KHNP shall store SGI designated by this Order only in the facility or facilities specifically approved in writing by the NRC for storage of SGI designated by this Order. KHNP may request, in writing, NRC approval of additional facilities for the storage of the SGI designated by this Order that the NRC will consider on a case-by-case basis.

(3) KHNP may provide SGI designated by this Order to individuals (such as foreign/non-U.S. nationals, U.S. citizens living in foreign countries, or individuals under the age of 18) for whom fingerprinting and an FBI criminal history records check are not reasonably expected to yield sufficient criminal history information to form the basis of an informed decision on granting access to SGI, provided that the individual satisfies the requirements of this Order, and that KHNP has implemented measures, in addition to those set forth in this Order, to ensure that the individual is suitable to have access to the SGI designated by this Order. Such additional measures must include, but are not limited to, equivalent criminal history records checks conducted by a U.S. local, U.S. State, or foreign governmental agency and enhanced background checks, including employment and credit history. The NRC must review these additional measures and approve them in writing.

B. No person may provide SGI to another person, except in accordance with Section III.A. above. Before a person provides SGI to any person, a copy of this Order shall be provided to that person.

C. KHNP shall comply with the following requirements:

(1) KHNP shall, within 20 days of the date of this Order, submit the fingerprints of one individual whom (a) it nominates as the reviewing official for determining access to SGI by other individuals, and (b) has an established need to know the information. The NRC will determine if this individual (or any subsequent reviewing official) may have access to SGI and, therefore, will be permitted to serve as KHNP's reviewing official.² KHNP may, at the same time or later, submit the fingerprints of other individuals to whom it seeks to grant access to SGI. Fingerprints shall be submitted and reviewed in accordance with the procedures described in the attachment to this Order.

² The NRC's determination of this individual's access to SGI in accordance with the process described in Enclosure 3 to the transmittal letter of this Order is an administrative determination that is outside the scope of this Order.

(2) KHNP shall, in writing, within 20 days of the date of this Order, notify the Commission (1) if it is unable to comply with any of the requirements described in the Order, including the attachment, or (2) if compliance with any of the requirements is unnecessary in its specific circumstances.

The notification shall provide KHNP's justification for seeking relief from, or variation of, any specific requirement.

KHNP shall submit responses to C.(1) and C.(2) above to the Director, Office of New Reactors, U.S. Nuclear Regulatory Commission, Washington, DC 20555-0001. In addition, KHNP shall mark its responses as “Security-Related Information-Withhold Under 10 CFR 2.390.”

Except for the requirements for fingerprinting, the Director, Office of New Reactors, may, in writing, relax or rescind any of the above conditions upon demonstration of good cause by KHNP.

IV

In accordance with 10 CFR 2.202, KHNP must, and any other person adversely affected by this Order may, submit an answer to this Order and may request a hearing on this Order, within 20 days of the date of this Order. Where good cause is shown, the NRC will consider extending the time to request a hearing. A request for an extension to submit an answer or request a hearing must be made in writing to the Director, Office of New Reactors, U.S. Nuclear Regulatory Commission, Washington, DC 20555-0001, and include a statement of good cause for the extension.

The answer may consent to this Order. Unless the answer consents to this Order, the answer shall, in writing and under oath or affirmation, specifically set forth the matters of fact and law by which KHNP or other entities adversely affected rely, and the reasons as to why the NRC should not have issued this Order.

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August, 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for a hearing or petition for leave to intervene. Submissions should be in Portable Document Format (PDF) in accordance with NRC's guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC's Web site at http://www.nrc.gov/site-help/e-submittals.html, by email at MSHD.Resource@nrc.gov, or by a toll-free call at 1-866-672-7640. The NRC Meta System Help Desk is available between 8 a.m. and 8 p.m., Eastern Time, Monday through Friday, excluding government holidays.

Participants who believe that they have good cause for not submitting documents electronically must file an exemption request, in accordance with 10 CFR 2.302(g), with their initial paper filing requesting authorization to continue to submit documents in paper format. Such filings must be submitted by (1) first class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd1.nrc.gov/ehd, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

If KHNP, or a person whose interest is adversely affected, requests a hearing, the Commission will issue an order designating the time and place of the hearing. If a hearing is held, the issue to be considered at such hearing shall be whether this Order should be sustained.

Under 10 CFR 2.202(c)(2)(i), KHNP may, in addition to demanding a hearing, at the time the answer is filed or sooner, move the presiding officer to set aside the immediate effectiveness of the order on the grounds that the order, including the need for immediate effectiveness, is not based on adequate evidence but on mere suspicion, unfounded allegations, or error. In the absence of any request for hearing, or written approval of an extension of time in which to request a hearing, the provisions as specified above in Section III shall be final 20 days from the date of this Order without further order or proceedings.

If the agency approves an extension for a hearing, the provisions, as specified above in Section III, shall be final when the extension expires if a hearing request has not been received.

An answer or a request for hearing shall not stay the immediate effectiveness of this order.

Dated at Rockville, Maryland, this 1st day of July 2013.
For the U.S. Nuclear Regulatory Commission.
Gary M. Holahan,
Acting Director, Office of New Reactors.

Guidance for Evaluation of Access to Safeguards Information with the Inclusion of Criminal History Records (Fingerprint) Checks

When a licensee or other person ³ submits fingerprints to the U.S. Nuclear Regulatory Commission (NRC) under an NRC Order, it will receive a criminal history summary of information, provided in U.S. Federal records, since the individual's 18th birthday. Individuals retain the right to correct and complete information and to initiate challenge procedures described in Enclosure 3. The licensee will receive the information from the criminal history records check for those individuals requiring access to Safeguards Information (SGI), and the reviewing official will evaluate that information using the guidance below. Furthermore, the requirements for all Orders, which apply to the information and material to which access is being granted, must be met.

³ As used herein, “licensee” means any licensee or other person who is required to conduct fingerprinting.

The licensee's reviewing official is required to evaluate all pertinent and available information in making a determination of access to SGI, including the criminal history information about the individual as required by the NRC Order. The criminal history records check is used when determining if an individual has a record of criminal activity that indicates that the individual should not have access to SGI. Each determination of access to SGI, which includes a review of criminal history information, must be documented to include the basis for the decision that is made.

(i) If negative information is discovered that the individual did not provide, or which is different in any material respect from the information that the individual provided, this information should be considered, and decisions made based on these findings must be documented.

(ii) Any record containing a pattern of behaviors that indicates that the behaviors could recur or continue, or recent behaviors that cast doubt on whether an individual should have access to SGI, should be carefully evaluated before any authorization of access to SGI.

It is necessary for a licensee to resubmit fingerprints only under two conditions:

(1) The FBI has determined that the fingerprints cannot be classified because of poor quality in the mechanics of taking the initial impressions.

(2) The initial submission is lost.

If the FBI advises that four sets of fingerprints are unclassifiable because they are unreadable, the NRC will automatically forward a name search to the FBI. When those search results are received from the FBI, no further search is necessary.

Process To Challenge NRC Denials or Revocations of Access to Safeguards Information

1. Policy

This policy establishes a process for individuals whom the U.S. Nuclear Regulatory Commission (NRC) licenses or other person ⁴ nominated as reviewing officials to challenge and appeal NRC denials or revocations of access to Safeguards Information (SGI). Any individual nominated as a licensee reviewing official whom the NRC has determined may not have access to SGI shall, to the extent provided below, be afforded an opportunity to challenge and appeal the NRC's determination. This policy shall not be construed to require the disclosure of SGI to any person; neither shall it be construed to create a liberty or property interest of any kind in the access of any individual to SGI.

⁴ As used herein, “licensee” means any licensee or other person who is required to conduct fingerprinting.

2. Applicability

This policy applies solely to those employees of licensees who are nominated as reviewing officials and who are thus considered, by the NRC, for initial or continued access to SGI in that position.

3. SGI Access Determination Criteria

The NRC will determine whether access to SGI will be granted to an individual nominated to be a reviewing official. Access to SGI shall be denied or revoked whenever it is determined that an individual does not meet the applicable standards. Any doubt about an individual's eligibility for initial or continued access to SGI shall be resolved in favor of the national security, and access will be denied or revoked.

4. Procedure To Challenge the Contents of Records Obtained From the FBI

a. Before a determination by the NRC Facilities Security Branch Chief that an individual nominated as a reviewing official is denied or revoked access to SGI, the individual shall have the following recourse:

(i) Be given the contents of records obtained from the FBI for the purpose of assuring correct and complete information. If, after reviewing the record, an individual believes that it is incorrect or incomplete in any respect and wishes to change, correct, or update the alleged deficiency, or to explain any matter in the record, the individual may initiate challenge procedures, including either direct application by the individual challenging the record to the agency (i.e., law enforcement agency) that contributed the questioned information or direct challenge as to the accuracy or completeness of any entry on the criminal history record to the Assistant Director, Federal Bureau of Investigation, Identification Division, Washington, DC 20537-9700 (as set forth in 28 CFR 16.30 through 16.34). In the latter case, the FBI will forward the challenge to the submitting agency and request that agency to verify or correct the challenged entry. Upon receipt of an official communication directly from the agency that contributed the original information, the FBI Identification Division makes any necessary changes in accordance with the information supplied by that agency.

(ii) Be afforded 10 days to initiate an action challenging the results of an FBI criminal history records check (described in (i), above) after the record is made available to the individual for his or her review. If the individual initiates such a challenge, the NRC Facilities Security Branch Chief may make a determination based upon the criminal history record only upon receipt of the FBI's ultimate confirmation or correction of the record.

5. Procedure To Provide Additional Information

a. Before a determination by the NRC Facilities Security Branch Chief that an individual nominated as a reviewing official is denied or revoked access to SGI, the individual shall have the following recourse:

(i) Be afforded an opportunity to submit information relevant to the individual's trustworthiness and reliability. The NRC Facilities Security Branch Chief shall, in writing, notify the individual of this opportunity and any deadlines for submitting this information. The NRC Facilities Security Branch Chief may make a determination of access to SGI only upon receipt of the additional information that the individual submits, or, if no such information is submitted, when the deadline to submit such information has passed.

6. Procedure To Notify an Individual of the NRC Facilities Security Branch Chief Determination To Deny or Revoke Access to SGI

Upon a determination by the NRC Facilities Security Branch Chief that an individual nominated as a reviewing official is denied or has his or her access to SGI revoked, the individual shall be given a written explanation of the basis for this determination.

7. Procedure To Appeal an NRC Determination To Deny or Revoke Access to SGI

Upon a determination by the NRC Facilities Security Branch Chief that an individual nominated as a reviewing official is denied or has his or her access to SGI revoked, the individual shall be given an opportunity to appeal this determination to the Director, Division of Facilities and Security. The determination must be appealed within 20 days of receipt of the written notice of the determination by the Facilities Security Branch Chief and may either be in writing or in person. Any appeal made in person shall take place at the NRC's headquarters and shall be at the individual's own expense. The determination by the Director, Division of Facilities and Security, shall be rendered within 60 days after receipt of the appeal.

8. Procedure To Notify an Individual of the Determination by the Director, Division of Facilities and Security, Upon an Appeal

A determination by the Director, Division of Facilities and Security, shall be provided to the individual in writing and include an explanation of the basis for this determination. A decision by the Director, Division of Facilities and Security, to affirm the Facilities Branch Chief's determination to deny or revoke an individual's access to SGI is final and not subject to further administrative appeals.

General Requirements

Licensees and other persons who are required to conduct fingerprinting shall comply with the requirements of this enclosure.⁵

⁵ As used herein, “licensee” means any licensee or other person who is required to conduct fingerprinting in accordance with these requirements.

The licensee shall notify the U.S. Nuclear Regulatory Commission (NRC) of any desired change in reviewing officials, in compliance with C.1 of the subject Order. The NRC will determine if the individual nominated as the new reviewing official may have access to Safeguards Information (SGI) based on a previously obtained or new criminal history check and, therefore, will be permitted to serve as the licensee's reviewing official.

Procedures for Processing Fingerprint Checks

For the purpose of complying with this Order, licensees shall, using an appropriate method listed in Part 73 of Title 10 of the Code of Federal Regulations (10 CFR), “Physical Protection of Plants and Materials,” Section 4, “Communications,” submit one completed, legible standard fingerprint card (Form FD-258, ORIMDNRCOOOZ) to the NRC's Division of Facilities and Security, Mail Stop TWB-05B32M, or, where practicable, other fingerprint records for each individual seeking access to SGI, to the Director of the Division of Facilities and Security, marked to the attention of the Division's Criminal History Check Section. Copies of these forms may be obtained by writing to the Office of Information Services, U.S. Nuclear Regulatory Commission, Region III, Attn: Deborah Hersey, Mail Stop: Region III—DRP, 2443 Warrenville Road, Suite 210, Lisle, IL 60532-4352, or by calling 1-630-829-9565 or sending email to Forms.Resource@nrc.gov. Practicable alternative formats are set forth in 10 CFR 73.4, “Communications.” The licensee shall establish procedures to ensure that the quality of the fingerprints taken results in minimizing the rejection rate of fingerprint cards because of illegible or incomplete cards.

The NRC will review submitted fingerprint cards for completeness. Any Form FD-258 fingerprint record containing omissions or evident errors will be returned to the licensee for corrections. The fee for processing fingerprint checks includes one re-submission if the Federal Bureau of Investigations (FBI) returns the initial submission because the fingerprint impressions cannot be classified. If additional submissions are necessary, they will be treated as initial submittals and will require a second payment of the processing fee.

Fees for processing fingerprint checks are due upon application. Licensees shall submit payment with the application for processing fingerprints by corporate check, certified check, cashier's check, money order, or electronic payment made payable to the NRC. (For guidance on making electronic payments, contact the Facilities Security Branch, Division of Facilities and Security, at 301-492-3531) Combined payment for multiple applications is acceptable. The application fee (currently $26.00) is the sum of the user fee that the FBI charges for each fingerprint card or other fingerprint record that the NRC submits on behalf of a licensee and an NRC processing fee, which covers administrative costs associated with the NRC's handling of licensee fingerprint submissions. The Commission will directly notify licensees who are subject to this regulation of any fee changes.

The Commission will forward to the submitting licensee all data received from the FBI as a result of the licensee's application(s) for criminal history records checks, including the FBI fingerprint record.

Right To Correct and Complete Information

Before any final adverse determination, the licensee shall make available to the individual the contents of any criminal records obtained from the FBI for the purpose of assuring correct and complete information. Written confirmation by the individual of receipt of this notification must be maintained by the licensee for 1 year from the date of the notification. If, after reviewing the record, an individual believes that it is incorrect or incomplete in any respect and wishes to change, correct, update the alleged deficiency, or explain any matter in the record, the individual may initiate challenge procedures. These procedures include either direct application by the individual challenging the record to the agency (i.e., law enforcement agency) that contributed the questioned information or direct challenge to the accuracy or completeness of any entry on the criminal history record to the Assistant Director, Federal Bureau of Investigation, Identification Division, Washington, DC 20537-9700 (as set forth in 28 CFR 16.30 through 16.34). In the latter case, the FBI forwards the challenge to the agency that submitted the data and requests that agency to verify or correct the challenged data. Upon receipt of an official communication directly from the agency that contributed the original information, the FBI Identification Division makes any changes necessary in accordance with the information that agency supplies. The licensee must give at least 10 days for an individual to initiate an action challenging the results of an FBI criminal history records check after the record is made available to that individual for his or her review. The licensee may make a final SGI access determination based on the criminal history record only upon receipt of the FBI's ultimate confirmation or correction of the record. Upon a final adverse determination on access to SGI, the licensee shall give the individual its documented basis for denial. Access to SGI shall not be granted to an individual during the review process.

Protection of Information

(1) Each licensee who obtains a criminal history record on an individual under this Order shall establish and maintain a system of files and procedures for protecting the record and the personal information from unauthorized disclosure.

(2) The licensee may not disclose the record or personal information collected and maintained to persons other than the subject individual, his or her representative, or to those who have a need to access the information in performing assigned duties in the process of determining access to Safeguards Information (SGI). No individual authorized to have access to the information may re-disseminate the information to any other individual who does not have a need-to-know claim.

(3) The personal information obtained on an individual from a criminal history record check may be transferred to another licensee if the licensee holding the criminal history record check receives the individual's written request to re-disseminate the information contained in his or her file, and the current licensee verifies information such as the individual's name, date of birth, social security number, sex, and other applicable physical characteristics for identification purposes.

(4) The licensee shall make criminal history records, obtained under this section, available for examination by an authorized representative of the NRC to determine compliance with the regulations and laws.

(5) The licensee shall retain all fingerprint and criminal history records received from the FBI, or a copy if the individual's file has been transferred, for 3 years after termination of employment or determination of access to SGI (whether access was approved or denied). After the required 3 years, these documents shall be destroyed by a method that will prevent reconstruction of the information in whole or in part.

[FR Doc. 2013-16984 Filed 7-15-13; 8:45 am]

BILLING CODE 7590-01-P